NATIONAL SCIENCE FOUNDATION

Notice of Intent To Seek Approval To Establish an Information Collection

AGENCY: National Science Foundation.

ACTION: Notice and Request for Comments.

SUMMARY: In compliance with the requirement of Section 3506(c)(2)(A) of the Paperwork Reduction Act of 1995 for opportunity for public comment on proposed data collection projects, the National Science Foundation (NSF) will publish periodic summaries of proposed projects.

Comments are invited on (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

DATES: Written comments on this notice must be received by November 6, 2006 to be assured of consideration. Comments received after that date will be considered to the extent practicable.

FOR ADDITIONAL INFORMATION OR COMMENTS: Contact Suzanne Plimpton, Acting Reports Clearance Officer, National Science Foundation, 4201 Wilson Boulevard, Suite 295, Arlington, Virginia 22230; telephone 703-292-7556; or send e-mail to splimpto@nsf.gov. Individuals who use a telecommunications device for the deaf (TDD) may call the Federal Information Relay Service (FIRS) at 1-800-877-8339 between 8 a.m. to 8 p.m., Eastern time, Monday through Friday. You also may obtain a copy of the date collection instrument and instructions from Ms. Hines.

SUPPLEMENTARY INFORMATION: Title of Collection: Model Institutions for Excellence Graduates’ Survey.

OMB Approval Number: 3145-NEW.

Expiration Date of Approval: Not Applicable.

Type of Request: Intent to seek approval to establish an information collection for three years.

Proposed Project: The Division of Human Resource Development (EHR/HRD) of the National Science Foundation (NSF) has requested impact information on the Model Institutions for Excellence (MIE) Program. Jointly funded by NSF and the National Aeronautics and Space Administration (NASA), the MIE Program funded eight minority-service undergraduate institutions to promote under represented minority participation in the fields of science, technology, engineering and mathematics (STEM). Now NSF seeks follow-up information on program graduates to determine whether or not they have continued their education in STEM graduate programs and/or STEM employment, and how the MIE program influence their decisions with respect to graduate school and employment. NSF proposed a one-time on-line survey of the 931 MIE students who received bachelor's degrees in a STEM field from one of the MIE colleges between 2002 through 2005.

Estimate of Burden: The Foundation estimates that, on average, 30 minutes per respondent will be required to complete the survey, for a total of 465.5 hours for all respondents. Respondents from the eight institutions that received NSF MIE support will complete this survey once.

Respondents: STEM graduates from MIE programs.

Estimated Number of Responses: 931.

Estimates Total Annual Burden on Respondents: 465.5 hours.

Dated: August 29, 2006.
Suzanne Plimpton,
Reports Clearance Officer, National Science Foundation.

[FR Doc. 06-7388 Filed 9-1-06; 8:45 am]

BILLING CODE 7555-01-M